DEPARTMENT OF HEALTH AND HUMAN SERVICES

Centers for Disease Control and Prevention

Disease, Disability, and Injury Prevention and Control Special Emphasis Panels (SEP): Centers for Autism and Developmental Disabilities Research and Epidemiology, A Case Cohort Study. Request for Applications (RFA) Number DD06-003

In accordance with Section 10(a)(2) of the Federal Advisory Committee Act (Pub. L. 92-463), the Centers for Disease Control and Prevention (CDC) announces the following meeting:

Name: Disease, Disability, and Injury Prevention and Control Special Emphasis Panel (SEP): Centers for Autism and Developmental Disabilities Research and Epidemiology (CADDRE), A Case Cohort Study.

Time and Date: 8 a.m.-5 p.m., June 23, 2006 (Closed).

Place: Centers for Disease Control and Prevention, 1600 Clifton Road, NE., Building 19, Room 248, Atlanta, GA 30333.

Status: The meeting will be closed to the public in accordance with provisions set forth in Section 552b(c) (4) and (6), Title 5 U.S.C., and the Determination of the Director, Management Analysis and Services Office, CDC, pursuant to Public Law 92-463.

Matters to be Discussed: To conduct expert review of scientific and merit of research applications: Centers for Autism and Developmental Disabilities Research and Epidemiology, A Case Cohort Study, RFA-DD06-003.

FOR FURTHER INFORMATION CONTACT: Juliana Cyril, Ph.D., Scientific Review Administrator, CDC, 1600 Clifton Road, NE., Mail Stop D-72, Atlanta, GA, 30333, Telephone 404.639.4897, e-mail address: zdq4@cdc.gov.

The Director, Management Analysis and Services Office, has been delegated the authority to sign Federal Register notices pertaining to announcements of meetings and other committee management activities, for both CDC and the Agency for Toxic Substances and Disease Registry.

Dated: April 21, 2006.
Alvin Hall,
Director, Management Analysis and Services Office, Centers for Disease Control and Prevention.

[FR Doc. E6-6417 Filed 4-27-06; 8:45 am]

BILLING CODE 4163-18-P